DEPARTMENT OF HEALTH AND HUMAN SERVICES

Administration for Community Living

Announcing the Intent To Award a Single-Source Supplement for the Strengthening the Direct Care Workforce: A Technical Assistance and Capacity Building Initiative

AGENCY: Administration for Community Living, HHS.

ACTION: Notice.

SUMMARY: The Administration for Community Living (ACL) announces the intent to award a single-source supplement to the current cooperative agreement held by the National Council on Aging for the “Strengthening the Direct Care Workforce: A Technical Assistance and Capacity Building Initiative”. The administrative supplement for FY 2024 will be in the amount of $1,787,524 bringing the total award for FY 2024 to $3,087,207. The supplement will provide sufficient resources to enable the grantee and their partners to increase funding for technical assistance (TA) to state aging and disability partnerships to collaborate with workforce entities to strengthen the Direct Care Workforce. The funding will enable the grantee to support additional states, including at more robust levels than originally planned.

FOR FURTHER INFORMATION CONTACT: For further information or comments regarding this program supplement, contact Caroline Ryan, U.S. Department of Health and Human Services, Administration for Community Living, telephone (202) 795-7429; email caroline.ryan@acl.hhs.gov.

SUPPLEMENTARY INFORMATION: Through this initiative, ACL is advancing the capacity to recruit, train and retain a high-quality, competent, and effective direct care workforce of professionals capable of meeting the growing needs that older adults and people with disabilities have for such supports. The purpose of this program is to catalyze change at a systems level that will address the insufficient supply of trained DCWs, promote promising practices at all levels of the service system and improve data collection to enable a full understanding of the workforce issue.

The intended outcomes of the initiative are as follows:

1. Increase the availability and visibility of tools and resources to attract, train and retain the direct care workforce in quality jobs where they earn livable wages and have voice in their working environment, and have access to benefits and opportunities for advancement.

2. Increase the number of states that develop and sustain collaborations across state systems and workforce agencies to implement strategies that will improve the recruitment, retention, and advancement of high quality DCW jobs.

Program Name: Strengthening the Direct Care Workforce: A Technical Assistance and Capacity Building Initiative.

Recipient: The National Council on Aging.

Period of Performance: The supplement award will be issued for the third year of the five-year project period of September 30, 2022 through September 29, 2027.

Total Award Amount: $3,087,207 in FY 2024.

Award Type: Cooperative Agreement.

Statutory Authority: Section 411(13) of the Older Americans Act, section 161 (2) of the Developmental Disabilities Assistance and Bill of Rights Act, and section 21 program of the Rehabilitation Act of 1973.

Basis for Award: The National Council on Aging is currently funded to carry out the objectives of the project entitled Strengthening the Direct Care Workforce: A Technical Assistance and Capacity Building Initiative for the project period of September 30, 2022 through September 29, 2027. This supplement will enable the grantee to carry their work even further, providing technical assistance to more state partnerships. The additional funding will also expand grantee's capability to produce issue briefs, case studies, and other materials to disseminate lessons learned and best practices via the Direct Care Workforce Strategies Center website. The NCOA is uniquely positioned to complete the work called for under this cooperative agreement. NCOA's partners on this project include the University of Minnesota Institute on Community Integration, National Association of Councils on Developmental Disabilities, Advancing States, PHI, Lincoln University Paula J. Carter Center on Minority Health and Aging, National Association of Medicaid Directors, National Council on Independent Living, Center for Innovation, National Alliance for Caregiving, National Association of State Directors of Developmental Disabilities Services, and Social Policy Research Associates (SPR). The grantee, and all partners, will work in close coordination with one another and ACL on those tasks and activities to which they have committed to ensure realization of project goals and objectives.

ACL believes it is in the best interest of the Federal Government to supplement the current grantee's existing project. Establishing an entirely new grant project at this time would be potentially disruptive to the current work already well under way. Further, it could create unintended duplication of effort and missed opportunities for greater coordination. Additionally, if this supplement is not provided, the project would be unable to expand its current technical assistance and training efforts to reach more state partnerships across aging, disability and workforce stakeholders to work together to strengthen the direct care workforce.

Dated: August 24, 2024.
Alison Barkoff,
Principal Deputy Administrator for the Administration for Community Living, performing the delegable duties of the Administrator and the Assistant Secretary for Aging.

[FR Doc. 2024-19418 Filed 8-28-24; 8:45 am]

BILLING CODE 4154-01-P